DEPARTMENT OF THE INTERIOR

Bureau of Land Management

[14X L1109AF LLUT910000.L10200000.XH0000 24-1A]

Call for Nominations for Utah's Resource Advisory Council

AGENCY: Bureau of Land Management, Interior.

ACTION: Notice.

SUMMARY: The purpose of this notice is to request six public nominations for the Bureau of Land Management (BLM) Utah Resource Advisory Council (RAC) that have members' terms expiring in 2015. The RACs provide advice and recommendations to the BLM on land use planning and management of the National System of Public Lands within Utah. The BLM will accept public nominations for 45 days after the publication of this notice.

DATES: All nominations must be received no later than September 4, 2014.

ADDRESSES: Nominations should be sent to Sherry Foot, Special Programs Coordinator, Bureau of Land Management, Utah State Office, 440 West 200 South, Suite 500, Salt Lake City, Utah 84101.

FOR FURTHER INFORMATION CONTACT: Sherry Foot, Special Programs Coordinator, Bureau of Land Management, Utah State Office, 440 West 200 South, Suite 500, Salt Lake City, Utah 84101; phone (801) 539-4195; or email sfoot@blm.gov.

Persons who use a telecommunications device for the deaf (TDD) may call the Federal Information Relay Service (FIRS) at 1-800-877-8339 to leave a message or question for the above individual. The FIRS is available 24 hours a day, seven days a week. Replies are provided during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784 and include the following three membership categories:

Category One (two vacancies)—Holders of Federal grazing permits and representatives of organizations associated with energy and mineral development, timber industry, transportation or rights-of-way, developed outdoor recreation, off-highway vehicle use, and commercial recreation;

Category Two (one vacancy)—Representatives of nationally or regionally recognized environmental organizations, archaeological and historic organizations, dispersed recreation activities, and wild horse and burro organizations; and

Category Three (three vacancies)—Representatives of state, county, or local elected office, employees of a state agency responsible for management of natural resources, representatives of Indian tribes within or adjacent to the area for which the council is organized, representatives of academia who are employed in natural sciences, and the public-at-large.

Individuals may nominate themselves or others. Nominees must be residents of Utah. The BLM will evaluate nominees based on their education, training, experience, and knowledge of the geographical area of the RAC. Nominees should demonstrate a commitment to collaborative resource decision making. The Obama Administration prohibits individuals who are currently federally-registered lobbyists from being appointed or re-appointed to FACA and non-FACA boards, committees, or councils.

The following must accompany all nominations:

—Letters of reference from represented interests or organizations;

—A completed Resource Advisory Council application; and

—Any other information that addresses the nominee's qualifications.

Simultaneous with this notice, the BLM-Utah State Office will issue a press release providing additional information for submitting nominations.

(Authority: 43 CFR 1784.4-1)

Jenna Whitlock,
Associate State Director.

[FR Doc. 2014-17008 Filed 7-18-14; 8:45 am]

BILLING CODE 4310-DQ-P